DEPARTMENT OF TRANSPORTATION

Federal Railroad Administration

49 CFR Part 271

[Docket No. FRA-2009-0038]

RIN 2130-AC11

Risk Reduction Program; Public Hearing and Reopening of Comment Period

AGENCY: Federal Railroad Administration (FRA), Department of Transportation (DOT).

ACTION: Proposed rule; notice of public hearing and reopening of comment period.

SUMMARY: On February 27, 2015, FRA published a notice of proposed rulemaking that would require certain railroads to develop a Risk Reduction Program (RRP). FRA is announcing a public hearing to provide interested persons an opportunity to provide oral comments on the proposal. The Rail Safety Improvement Act of 2008 requires the development and implementation of railroad safety risk reduction programs. Risk reduction is a comprehensive, system-oriented approach to safety that: (1) Determines an operation's level of risk by identifying and analyzing applicable hazards; and (2) involves the development of plans to mitigate that risk. Each RRP is statutorily required to be supported by a risk analysis and a Risk Reduction Program Plan (RRPP), which must include a Technology Implementation Plan and a Fatigue Management Plan. FRA is also reopening the comment period for this proceeding to allow time for interested parties to submit comments after the public hearing.

DATES: A public hearing will be held on August 27, 2015, in Washington, DC and will commence at 9 a.m. The comment period for the proposed rule published on February 27, 2015 (80 FR 10950) is reopened. Comments must be received by September 10, 2015.

ADDRESSES: Public Hearing. The public hearing will be held at the Marriott Renaissance Hotel, 999 9th St. NW., Washington, DC 20001.

FOR FURTHER INFORMATION CONTACT: Miriam Kloeppel, Staff Director, Risk Reduction Program Division, Office of Safety Analysis, FRA, 1200 New Jersey Avenue SE., Mail Stop 25, Washington, DC 20590; telephone: 202-493-6224; email: Miriam.Kloeppel@dot.gov; or Elizabeth Gross, Trial Attorney, Office of Chief Counsel, FRA, 1200 New Jersey Avenue SE., Mail Stop 10, Washington, DC 20590; telephone: 202-493-1342; email: Elizabeth.Gross@dot.gov.

SUPPLEMENTARY INFORMATION: Interested parties are invited to present oral statements and to offer information and views at the hearing. The hearing will be informal and will be conducted by a representative FRA designates under FRA's Rules of Practice (49 CFR 211.25). The hearing will be a non-adversarial proceeding. Therefore, there will be no cross examination of persons presenting statements or offering evidence. An FRA representative will make an opening statement outlining the scope of the hearing. After all initial statements are completed, those persons wishing to make a brief rebuttal will be given the opportunity to do so in the same order in which the initial statements were made. FRA will announce additional procedures necessary to conduct of the hearing at the hearing. The purpose of this hearing is to receive oral comments in response to a Notice of Proposed Rulemaking (NPRM) that requested public comment on a potential risk reduction rulemaking. See 80 FR 10950, February 27, 2015. FRA will add a transcript of the discussions to the public docket in this proceeding.

Public Participation Procedures. Any persons wishing to make a statement at the hearing should notify Miriam Kloeppel, Staff Director, Risk Reduction Program Division, by telephone, email, or in writing, at least five business days before the date of the hearing and submit three copies of the oral statement that he or she intends to make at the proceeding. The notification should identify the party the person represents, the particular subject(s) the person plans to address, and the time requested. The notification should also provide the participant's mailing address and other contact information. FRA reserves the right to limit participation in the hearing of persons who fail to provide such notification. FRA also reserves the right to limit the duration of presentations if necessary to afford all persons with the opportunity to speak. Ms. Kloeppel's contact information is as follows: Staff Director, Risk Reduction Program Division, Office of Safety Analysis, FRA, 1200 New Jersey Avenue SE., Washington, DC 20590; telephone: 202-493-6224; email: Miriam.Kloeppel@dot.gov.

For information on facilities or services for persons with disabilities, or to request special assistance at the hearing, contact FRA Program Analyst, Kenton Kilgore; by telephone, email, or in writing; at least five business days before the date of the hearing. Mr. Kilgore's contact information is as follows: FRA, Office of Railroad Safety, Mail Stop 25, 1200 New Jersey Avenue SE., Washington, DC 20590; (202) 493-6286; Kenton.Kilgore@dot.gov.

Reopening of Comment Period. A public hearing is scheduled after the close of the comment period specifically provided for in the notice of proposed rulemaking. To accommodate the public hearing and afford interested parties the opportunity to submit comments in response to views or information provided at the public hearing, FRA is reopening the comment period for the proposed rule published on February 27, 2015 (80 FR 10950), comments must be received by September 10, 2015.

Issued in Washington, DC.
Robert C. Lauby,
Associate Administrator for Railroad Safety, Chief Safety Officer.

[FR Doc. 2015-18396 Filed 7-29-15; 8:45 am]

BILLING CODE 4910-06-P